DEPARTMENT OF AGRICULTURE

Forest Service

Lower Granite Area Mining Projects; Umatilla National Forest, Grant County, OR

AGENCY: Forest Service, USDA.

ACTION: Notice of intent to prepare a supplemental environmental impact statement.

SUMMARY: The Forest Service published a document in the Federal Register on March 9, 2000, providing notice that the Umatilla National Forest was intending to prepare an Environmental Impact Statement (EIS) on a proposed action to approve Proposed Plans of Operation on mining claims located in the Granite Area, within the Granite Creek Watershed, a tributary of the North Fork John Day River. The project area is located on the North Fork John Day Ranger District, approximately 35 air miles southeast of Ukiah, Oregon. The notice of availability for the Draft EIS for this project was published in the Federal Register on July 26, 2002. The decision has been made to issue a supplemental EIS for this project. The supplemental draft EIS will include on additional Plan of Operation and will update the analysis; including the cumulative effects analysis.

DATES: The formal scoping period opened with publication of the original Notice of Intent to produce an EIS first appeared in the Federal Register on March 9, 2000. Notification of the Draft EIS was printed in the Federal Register on July 26, 2002. The comment period was extended to October 21, 2002 in an amended notice published in the Federal Register September 20, 2002. Comments regarding the draft EIS should have been received by October 21, 2002. The Forest Service expects to file the supplemental draft impact statement with the Environmental Protection Agency and make it available for public comment by February 2005 and the final environmental impact statement is expected May 2005.

ADDRESSES: Send written comments and suggestions to: District Ranger, North Fork John Day Ranger District, P.O. Box 158, Ukiah, OR 97880.

FOR FURTHER INFORMATION CONTACT: Ralph Hartman, Project Team Leader, North Fork John Day Ranger District. Phone: (541) 427-5336.

SUPPLEMENTARY INFORMATION: The formal scoping period opened with publication of the Notice of Intent to produce an EIS, which first appeared in the Federal Register on March 9, 2000 (Vol. 65, No. 47, pages 12503-12505). Notification of the draft EIS was printed in the Federal Register on July 26, 2002 (Vol. 67, No. 144, page 48895). The comment period was extended to October 21, 2002 in an Amended Notice published in the Federal Register on September 20, 2002 (Vol. 67, No. 183, page 59285). Since publication of the draft EIS several changes have occurred. First, one additional new mining proposal has been received within the analysis area and will be added to the proposed action. The name of the EIS has been changed from Granite Area Mining Projects to Lower Granite Area Mining Projects; and in response to comments received during the draft EIS comment period, a more detailed cumulative effects analysis will be completed. In response to the proposed changes, the decision has been made to issue a supplemental draft EIS. The scope of the project has not changed; therefore, this revised Notice of Intent does not initiate a second scoping period for the proposal. The supplemental draft EIS is expected to be released in February 2005 and the final EIS is expected to be released in May 2005.

Responsible Official: The responsible official for this EIS is Craig Smith Dixon, District Ranger, North Fork John Day Ranger District, Umatilla National Forest.

Early Notice of Importance of Public Participation in Subsequent Environmental Review: A supplemental draft EIS will be prepared for comment. The comment period on the supplemental draft EIS will be 45 days from the date the Environmental Protection Agency published the notice of availability in the Federal Register.

The Forest Service believes, at this early stage, it is important to give reviewers notice of several court rulings related to public participation in the environmental review process. First, reviewers of draft EIS must structure their participation in the environmental review of the proposal so that it is meaningful and alerts an agency to the reviewer's position and contentions. Vermont Yankee Nuclear Power Corp. v. NRDS, 435 U.S. 519, 553 (1978). also environmental objections that could be raised at the draft EIS stage but that are not raised until after completion of the final EIS may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final EIS.

To assist the Forest Service in identifying and considering issues and concerns on the proposed action, comments on the draft EIS should be as specific as possible. It is also helpful if comments refer to specific pages or chapters of the draft statement. Comments may also address the adequacy of the draft EIS or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: December 22, 2004.
Jeff D. Blackwood,
Forest Supervisor.

[FR Doc. 05-273 Filed 1-5-05; 8:45 am]

BILLING CODE 3410-11-P